DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of May 21, 2007 through May 25, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-61,173; Viking Tool and Drill, Inc., St Paul, MN:March 22, 2006.

TA-61,181; Pine River Plastics, Inc., Westminster, SC:March 22, 2006.

The following certifications have been issued. The requirements of Section 222(a)(2)(B) (shift in production) of the Trade Act have been met.

None.

The following certifications have been issued. The requirements of Section 222(b) (supplier to a firm whose workers are certified eligible to apply for TAA) of the Trade Act have been met.

TA-61,209; Reum Corporation, On-Site Leased Workers of QPS Companies and Aerotek Staffing, Waukegan, IL:March 28, 2006.

TA-61,340; Tube Specialties Co., Inc., Troutdale, OR:April 18, 2006.

The following certifications have been issued. The requirements of Section 222(b) (downstream producer for a firm whose workers are certified eligible to apply for TAA based on increased imports from or a shift in production to Mexico or Canada) of the Trade Act have been met.

TA-61,389; Vaungarde Acquisition, LLC, Owosso, MI: April 18, 2006.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-61,434; Judith Leiber LLC, New York, NY: April 18, 2006

TA-61,439; Rugg Manufacturing Company, Inc.,Greenfield, MA: May 1, 2006.

TA-61,460; Lozier Corporation, On-Site Lease Workers From Gregg Staffing Services, Pittsburgh, PA: May 4, 2006.

TA-61,478; Royal Home Fashions, a subsidiary of Croscill Inc., Plant 8, Oxford, NC: May 28, 2007.

TA-61,543; KMC Holding LLC, dba Kennedy Manufacturing Company, On-Site leased workers of Manpower, Van Wert, OH: May 10, 2006.

TA-61,224; Opportunity, Inc., Medical Division, Highland Park, IL: April 2, 2006.

TA-61,313; Circa 1801 Doblin, a subsidiary of Joan Fabrics Corp., EBM Textiles, LLC Division, Connelly Springs,NC: April 13, 2006.

TA-61,350; Amsea, Inc., Fenton, MI: April 1, 2006.

TA-61,449; Delphi Corporation, Automotive Holding Group, On-Site Leased Workers of Securitas, Bartech etc.,Wichita Falls, TX: April 30, 2006.

The following certifications have been issued. The requirements of Section 222(a)(2)(B) (shift in production) and Section 246(a)(3)(A)(ii) of the Trade Act have been met.

TA-61,231; AAA Human Capital and Staffmark Investment, LLC, Working On-Site at Lego Systems, Inc., Enfield, CT:March 30, 2006.

TA-61,316; Associated Furniture Manufacturers, Inc., a wholly owned subsidiary of Sklar Peppler of America,Portland, OR: April 13, 2006.

TA-61,325; Metro Furniture, Metal Frame Department and Upholstery Department, Oakland, CA: April 17, 2006.

TA-61,326; Torque Traction Manufacturing Technologies, Inc., a subsidiary of Dana Corporation, Automotive Systems Group, Syracuse, IN: April 12, 2006.

TA-61,354; J.A.M. Plastics, Inc., (Formerly CIPI, Inc.), Anaheim, CA: April 17, 2006.

TA-61,402; Advanced Decorative Systems, Inc., dba Kaumagraph Flint Corporation, Millington, MI:April 26, 2006.

TA-61,470; General Motors Corporation, General Motors Springhill Mfg., Springhill, TN: May 4, 2006.

TA-61,471; Bond Cote Corporation, Fiber Loc Plant #2, Knitting Department, Dublin, VA: May 1, 2006.

TA-61,527; Fleetwood Travel Trailers of Kentucky, Inc., Travel Trailer Division, Campbellsville, KY: May 17,2006.

TA-61,534; Merkle Korff Industries, Inc., Richland Center Plant, Richland Center, WI: May 16, 2006.

TA-61,558; Seagate Technology, LLC, Longmont Division, Longmont, CO: May 21, 2006.

TA-61,337; MYOB US, Product Development, Denville, NJ:April 18, 2006.

TA-61,380; Briggs and Stratton Corporation, Engine Power Products Groups, On-Site Leased Workers of From Adecco, Murray, KY: March 30, 2006.

TA-61,393; Best Artex, LLC, Highland, IL: April 26, 2006.

TA-61,395; Federal Mogul Corporation, Systems Protection Group, On-Site Leased Workers from Kelly Services,Exton, PA: April 27, 2006.

TA-61,428; Dana Corporation, Heavy Vehicle Technologies And System Operations, Product Service Center,Statesville, NC: April 30, 2006.

TA-61,516; Best Textiles International, Ltd., Best Artex, LLC, West Point, MS: May 15, 2006.

TA-61,523; Central Brass Manufacturing Co., Currently Known as C.B.N. Supply, Cleveland, OH: April 27, 2006.

The following certifications have been issued. The requirements of Section 222(b) (supplier to a firm whose workers are certified eligible to apply for TAA) and Section 246(a)(3)(A)(ii) of the Trade Act have been met.

TA-61,312; Ashdale Foam, Inc., Conover, NC: April 10, 2006.

TA-61,401; Victor Plastics, Inc., Kalona Division, On-Site Leased Workers of Kelly Services, Kalona, IA:April 26, 2006.

TA-61,491; Decor Originals, Inc., Conover, NC: May 9, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

None.

The Department has determined that criterion (2) of Section 246 has not been met. Workers at the firm possess skills that are easily transferable.

TA-61,173; Viking Tool and Drill, Inc., St. Paul, MN.

TA-61,181; Pine River Plastics, Inc., Westminster, SC.

TA-61,209; Reum Corporation, On-Site Leased Workers of QPS Companies and Aerotek Staffing, Waukegan, IL.

TA-61,340; Tube Specialties Co., Inc., Troutdale, OR.

TA-61,389; Vaungarde Acquisition, LLC, Owosso, MI.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-61,135; Williamson and Company, Greer, SC.

TA-61,444; Biltbest Products, Inc., Sainte Genevieve, MO.

TA-61,525; Ametek, Commercial Motor Division, Racine, WI.

The investigation revealed that criteria (a)(2)(A)(I.B.) (Sales or production, or both, did not decline) and (a)(2)(B)(II.B.) (shift in production to a foreign country) have not been met.

TA-61,189; Analog Devices, Inc., Sunnyvale, CA.

The investigation revealed that criteria (a)(2)(A)(I.C.) (increased imports) and (a)(2)(B)(II.B.) (shift in production to a foreign country) have not been met.

TA-61,256; E.B.I. Holding, Inc., a subsidiary of Biomet, Inc., Allendale, NJ.

TA-61,317; Spacelabs Healthcare LLC, Spacelabs Medical, aka Delmar Reynolds Medical, Inc., Irvine, CA.

TA-61,358; Masonite Door Fabrication Services, Inc., a subsidiary of Masonite International, Toledo, OH.

TA-61,374; Seaswirl Boats, Inc., a subsidiary of Genmar Holdings, Inc., Culver, OR.

TA-61,227; Acument Global Technologies Camar, Decorah, IA.

TA-61,436; U.P. Plastics, Inc., Baraga, MI.

The workers' firm does not produce an article as required for certification under Section 222 of the Trade Act of 1974.

TA-61,382; Tandem Enterprises, Inc., Weslaco, TX.

TA-61,473; ICT Group, Inc., Dubois, PA.

TA-61,488; Webb Furniture Plant #1, Galax, VA.

The investigation revealed that criteria of Section 222(b)(2) has not been met. The workers' firm (or subdivision) is not a supplier to or a downstream producer for a firm whose workers were certified eligible to apply for TAA.

None.

I hereby certify that the aforementioned determinations were issued during the period of May 21 through May 25, 2007. Copies of these determinations are available for inspection in Room C-5311, U.S. Department of Labor, 200 Constitution Avenue, NW., Washington, DC 20210 during normal business hours or will be mailed to persons who write to the above address.

Dated: June 1, 2007.
Richard Church,
Certifying Officer, Division of Trade Adjustment Assistance.

[FR Doc. E7-11022 Filed 6-6-07; 8:45 am]

BILLING CODE 4510-FN-P